DEPARTMENT OF LABOR

Employment and Training Administration

[TA-W-64,494; TA-W-64,494A; TA-W-64,494B]

Chrysler LLC, Currently Known as Chrysler Group LLC, Kokomo Transmission Plant, Powertrain Division, Including On-Site Leased Workers From Aerotek, American Food & Vending and Wackenhut Security, Kokomo, Indiana; Chrysler LLC, Currently Known as Chrysler Group LLC, Indiana Transmission, Plants 1 & 2, Powertrain Division, Including On-Site Leased Workers From Aerotek, American Food & Vending and Wackenhut Security, Kokomo, Indiana; Chrysler LLC, Currently Known as Chrysler Group LLC, Kokomo Casting Plant, TCMA Division, Including On-Site Leased Workers From Aerotek, American Food & Vending and Wackenhut Security, Kokomo, Indiana; Amended Certification Regarding Eligibility To Apply for Worker Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 15, 2008, applicable to workers of Chrysler LLC, Kokomo Transmission Plant, Powertrain Division, Kokomo, Indiana, Chrysler LLC, Indiana Transmission Plants 1 and 2, Powertrain Division, Kokomo, Indiana, and Chrysler LLC, Kokomo Casting Plant, TCMA Division, Kokomo, Indiana. The notice was published in the Federal Register on January 14, 2009 (74 FR 2136). The notice was amended on March 23, 2009 to include leased workers from Aerotek, American Food & Vending, and Wackenhut Security who were employed on-site at the Kokomo, Indiana locations of the subject firm. The notice was published in the Federal Register on March 31, 2009 (74 FR 14581-14582).

At the request of the State agency, the Department reviewed the certification for workers of the subject firm. The workers are engaged in the production of aluminum transmissions, cases and component parts.

Information shows following a bankruptcy ruling, Chrysler LLC is currently known as Chrysler Group LLC. Workers separated from employment at the subject firm had their wages reported under a separated unemployment insurance (UI) tax account for Chrysler Group LLC.

Accordingly, the Department is amending this certification to include workers whose unemployment insurance (UI) wages are reported to Chrysler Group LLC.

The intent of the Department's certification is to include all workers of the subject firm who were adversely affected as an upstream supplier to a trade certified primary firm.

The amended notice applicable to TA-W-64,494 is hereby issued as follows:

“All workers of Chrysler LLC, currently known as Chrysler Group LLC, Kokomo Transmission Plant, Powertrain Division, including on-site leased workers from Aerotek, American Food & Vending and Wackenhut Security, Kokomo, Indiana (TA-W-64,494), Chrysler LLC, currently known as Chrysler Group LLC, Indiana Transmission Plants 1 & 2, Powertrain Division, including on-site leased workers from Aerotek, American Food & Vending and Wackenhut Security, Kokomo, Indiana (TA-W-64,494A), and Chrysler LLC, currently known as Chrysler Group LLC, Kokomo Casting Plant, TCMA Division, including on-site leased workers from Aerotek, American Food & Vending and Wackenhut Security, Kokomo, Indiana (TA-W-64,494B), who became totally or partially separated from employment on or after November 14, 2007 through December 15, 2010, are eligible to apply for adjustment assistance under Section 223 of the Trade Act of 1974, and are also eligible to apply for alternative trade adjustment assistance under Section 246 of the Trade Act of 1974.”

Signed at Washington, DC, this 16th day of October 2009.
Elliott S. Kushner,
Certifying Officer, Division of Trade Adjustment Assistance.

[FR Doc. E9-25795 Filed 10-26-09; 8:45 am]

BILLING CODE 4510-FN-P